DEPARTMENT OF JUSTICE

Antitrust Division

Notice Pursuant to the National Cooperative Research and Production Act of 1993_VSI Alliance

Notice is hereby given that, on January 15, 2002, pursuant to section 6(a) of the National Cooperative Research and Production Act of 2993, 15 U.S.C. 4301 et seq. (“the Act”), VSI Alliance has filed written notifications simultaneously with the Attorney General and the Federal Trade Commission disclosing changes in its membership status. The notifications were filed for the purpose of extending the Act's provisions limiting the recovery of antitrust plaintiffs to actual damages under specified circumstances. Specifically, ATRI Technologies, Inc., Markham, Ontario, CANADA; Claudio Costi (individual member), Calgary, Alberta, CANADA; Magic Ge (individual member), Shanghai, PEOPLE'S REPUBLIC OF CHINA; Lateral Sands, West Perth, Western Australia, AUSTRALIA; Tsung Lee (individual member). Kao-Hsiung, TAIWAN; Piiri Technologies Oy, Oulu, FINLAND; Robert Bosch GmbH, Reutlingen, GERMANY; Thales Group, Gennevilliers, FRANCE; James R. Tobias (individual member), San Jose, CA; Paxonet Communications, Pune, Maharashtra, INDIA; and Teleraty Systems, Inc., Sunnyvale, CA have been added as parties to this venture.

Also, ChipLogic, Inc., Santa Clara, CA; Chronology Corp., Redmond, WA; Cogency Semiconductor, Inc., Toronto, Ontario, CANADA; Duolog Technologies LTD, Dublin, IRELAND; eSilicon Corp., Palo Alto, CA; Experience First, Inc., San Jose, CA: Hantro Products Oy, Oulu, FINLAND; KITAL—Korean Institute of Technology, Seoul, REPUBLIC OF KOREA; Timothy O'Donnell (individual member), Los Gatos, CA: SIDSA—Design Tech. Dept., Madrid, SPAIN; Silicon Automation Systems Limited, Karnataka, INDIA; SOCIP Group of Korea, Seoul, REPUBLIC OF KOREA; Synad Technologies Ltd., Reading, England, UNTIED KINGDOM; CG CorEl Logic Systems, Pune, Maharashtra, INDIA; and HGS Engineering, Inc., Sunnyvale, CA have been dropped as parties to this venture.

No other changes have been made in either the membership or planned activity of the group research project. Membership in this group research project remains open, and VSI Alliance intends to file additional written notification disclosing all changes in membership.

On November 29, 1996, VSI Alliance filed its original notification pursuant to section 6(a) of the Act. The Department of Justice published a notice in the Federal Register pursuant to section 6(b) of the Act on March 4, 1997 (62 FR 9812).

The last notification was filed with the Department on October 12, 2001. A notice was published in the Federal Register pursuant to section 6(b) of the Act on December 5, 2001 (66 FR 63259).

Constance K. Robinson,
Director of Operations, Antitrust Division.

[FR Doc. 02-5533 Filed 3-7-02; 8:45 am]

BILLING CODE 4410-11-M